OFFICE OF THE UNITED STATES TRADE REPRESENTATIVE

Andean Trade Preference Act (ATPA), as Amended: Notice Regarding the 2005 Annual Review

AGENCY: Office of the United States Trade Representative.

ACTION: Notice.

SUMMARY: The Office of the United States Trade Representative (USTR) received petitions in September 2005 to review certain practices in certain beneficiary developing countries to determine whether such countries are in compliance with the ATPA eligibility criteria. This notice publishes a list of the September 2005 petitions that were filed in response to the announcement of the annual review.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210), provides trade benefits for eligible Andean countries. Pursuant to section 3103(d) of the ATPDEA, USTR promulgated regulations (15 CFR part 2016) (68 FR 43922) regarding the review of eligibility of countries for the benefits of the ATPA, as amended. The 2005 Annual ATPA Review is the third such review to be conducted pursuant to the ATPA regulations.

In a Federal Register notice dated August 18, 2005, USTR initiated the 2005 ATPA Annual Review and announced a deadline of September 19, 2005 for the filing of petitions (70 FR 48622). Following is the list of responsive petitions that were filed for the 2005 review:

Peru ExxonMobil

USTR also received updated information regarding certain matters under consideration from the 2003 and 2004 ATPA reviews:

Ecuador Human Rights Watch

Ecuador U.S./Labor Education in the Americas Project

Ecuador AFL/CIO

Peru Parsons Corporation

USTR will announce the results of the preliminary review of the 2005 petitions as well as the results of the review of the remaining 2003 and 2004 petitions on or about December 1, 2005.

Carmen Suro-Bredie,
Chairman, Trade Policy Staff Committee.

[FR Doc. 05-23031 Filed 11-21-05; 8:45 am]

BILLING CODE 3190-W5-P